DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Battle Ground, Yacolt & Chelatchie Prairie Railroad

[Docket Number FRA-2000-8501]

The Battle Ground, Yacolt & Chelatchie Prairie Railroad seeks a permanent waiver of compliance with the Safety Glazing Standards, 49 CFR part 223.1(c) which requires certified glazing in all locomotive windows, with the exception of locomotives used in yard service.

The Battle Ground, Yacolt & Chelatchie Prairie Railroad seeks relief for locomotive number 112 (AAR number designation pending), built in 1951 by American Locomotive Company (ALCO) for the Longview, Portland and Northern Railroad. This locomotive is currently equipped with Duolite A25, Duolite A5 110, Safety Sheeting AS2 Laminated M91 and Laminated Auto Safety Glazing. The operating railroad indicates that the locomotive will be utilized in passenger excursion service between Battle Ground, Washington (MP 14) and Chelatchie, Washington (MP 33).

All communications concerning these proceedings should identify the appropriate docket number (e.g., Waiver Petition Docket Number FRA-2000-8501 and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at ­ http://dms.dot.gov.

Issued in Washington, DC on January 10, 2001.
Grady C. Cothen, Jr.,
Deputy Associate Administrator for Safety Standards and Program Development.

[FR Doc. 01-1559 Filed 1-17-01; 8:45 am]

BILLING CODE 4910-06-P